ENVIRONMENTAL PROTECTION AGENCY

[EPA-HQ-OW-2014-0138; FRL-9913-60-OW]

Peer Review of the Draft Health Effects Documents for Perfluorooctanoic Acid and Perfluorooctane Sulfonate—Final List of Peer Reviewers and Notice of the Peer Review Meeting

AGENCY: Environmental Protection Agency (EPA).

ACTION: Notice of final peer reviewer selection and external peer review meeting.

SUMMARY: The Environmental Protection Agency (EPA) is announcing the final peer reviewers assembled by Versar, Inc., an EPA contractor, for external peer review of the draft documents entitled “Health Effects Document for Perfluorooctanoic Acid” and “Health Effects Document for Perfluorooctane Sulfonate.” The peer reviewers are charged with reviewing the scientific and technical merit of the EPA draft health effect documents. EPA is also announcing that Versar, Inc. will organize and conduct the external peer review meeting for the EPA draft health effects documents on August 21 and 22, 2014 in Arlington, Virginia. The meeting will be devoted to discussion and deliberation of major issues identified by the peer reviewers regarding EPA's draft health documents and will be guided by the charge questions previously provided to the public. Versar, Inc. invites the public to register to attend this two-day meeting as observers, either in-person or via teleconference. Registered observers may attend and observe the peer review deliberations, but will not be allowed to address the peer reviewers or provide oral or written comments at the meeting.

DATES: The public external peer review meeting will be held on August 21 and 22, 2014, beginning and ending at approximately 8:30 a.m. and 5:00 p.m. (EDT) on both days. The registration deadline to attend the meeting in-person or via teleconference is August 18, 2014.

ADDRESSES: The peer review meeting will be held at the Crystal City Marriott at Reagan National Airport, located at 1999 Jefferson Davis Highway, Arlington, VA 22202. The phone number for the teleconference line will be provided to registered observers prior to the meeting.

Registration Instructions: To attend the peer review meeting as an observer, either in-person or via teleconference, register no later than August 18, 2014. Space is limited for in-person attendance, and registrations will be accepted on a first-come, first-served basis. To register for the meeting, please visit http://peerreview.versar.com/epa/pfoa/registration.html, complete the online registration form, and submit the required information. You can also register through U.S. Postal Service or overnight/priority mail by sending the necessary registration information (see Registration Information) to the Versar Meeting Coordinator, Ms. Betzy Colon, Versar, Inc., 6850 Versar Center, Springfield, VA 22151; telephone: (703) 642-6727. Registrations sent via U.S. Postal Service or overnight/priority mail must be received by August 18, 2014.

Registration Information: To register for the meeting online or via mail, please provide your full name, title, organization or affiliation, and contact information. You must also indicate which day(s) you plan to attend the meeting.

FOR FURTHER INFORMATION CONTACT: Questions regarding logistics or registration for the external peer review meeting should be directed to Ms. Betzy Colon, Versar, Inc., 6850 Versar Center, Springfield, VA, 22151; telephone: (703) 642-6727; or via email at bcolon@versar.com. For additional information concerning EPA's draft health effects documents, please contact Joyce Donohue at U.S. EPA, Office of Water, Health and Ecological Criteria Division (Mail Code 4304T), 1200 Pennsylvania Avenue NW., Washington, DC 20460; telephone: (202) 566-1098; or email: donohue.joyce@epa.gov.

SUPPLEMENTARY INFORMATION:

I. Information on the Draft Health Effects Documents

EPA released the draft health effects documents for Perfluorooctanoic Acid (PFOA) and Perfluorooctane Sulfonate (PFOS) for purposes of public comment (scientific views) and peer review on February 28, 2014 (http://www.gpo.gov/fdsys/pkg/FR-2014-02-28/pdf/2014-04455.pdf), 79 FR 11429. The 60-day public comment period ended on April 29, 2014. EPA will consider peer reviewer and public comments when finalizing the documents. Once the health effects documents are finalized, they will be utilized to develop lifetime health advisory values for each chemical. The draft documents, draft charge questions, and public comments submitted during the public comment period may be viewed at http://www.regulations.gov (Docket ID No. EPA-HQ-OW-2014-0138). The draft documents and charge questions may also be viewed at http://peerreview.versar.com/epa/pfoa.

II. Information About the Peer Reviewers

Consistent with guidelines for the peer review of highly influential scientific assessments, EPA tasked a contractor (Versar, Inc.) to assemble six to seven experts to evaluate the draft documents. Versar, Inc. evaluated 29 candidates who were either nominated during a previous public comment period (February 28, 2014 to March 21, 2014) or were identified by Versar to augment the list of publically-nominated candidates. Versar narrowed the list of potential reviewers to 15 candidates and solicited public comments on the interim list on April 30, 2014 (http://www.gpo.gov/fdsys/pkg/FR-2014-04-30/pdf/2014-09888.pdf), 79 FR 24419. Using the selection criteria described in the Federal Register dated February 28, 2014 (http://www.gpo.gov/fdsys/pkg/FR-2014-02-28/pdf/2014-04455.pdf), 79 FR 11429, Versar selected the final seven peer reviewers who, collectively, best provide expertise spanning the multiple subject matter areas covered by the draft documents and, to the extent feasible, best provide a balance of perspectives. Additional information on the scientific peer reviewer selection process can be found at: http://peerreview.versar.com/epa/pfoa.

The final list of seven selected peer reviewers is provided below.

1. Dr. James Bruckner—University of Georgia

2. Dr. Deborah Cory-Slechta—University of Rochester School of Medicine and Dentistry

3. Dr. Jamie DeWitt—East Carolina University

4. Dr. Jeffrey Fisher—U.S. Food & Drug Administration

5. Dr. William Hayton—The Ohio State University (Emeritus)

6. Dr. Matthew Longnecker—National Institute of Environmental Health Sciences

7. Dr. Angela Slitt—University of Rhode Island

EPA requests that no individual or organization contact in any way the contractor (Versar, Inc.) or the peer reviewers regarding the subject of the peer review meeting, send them written materials regarding the subject of the meeting, or make any offers or requests to any of them that appear to be linked to their participation in the peer review. The Contractor (Versar, Inc.) will direct the reviewers to report any such contacts to the Contractor (Versar, Inc), who will take appropriate action in consultation with EPA to ensure the independence and impartiality of the peer review.

III. Information About the Peer Review Meeting

The peer reviewers have been charged with evaluating and preparing written comments on the draft PFOA and PFOS health effects documents. Specifically, reviewers will provide general comments, their overall impressions of the documents, and responses to 12 charge questions. Reviewers will also consider the appropriateness of the quality, accuracy, and relevance of the data in the documents. Comments submitted to EPA's public docket (Docket ID number EPA-HQ-OW-2014-0138) during each document's 60-day public comment period will also be provided to the peer reviewers ahead of the meeting for their consideration.

Peer reviewers will participate in the two-day peer review meeting to discuss the scientific basis supporting EPA's draft health effects documents. Following the peer review meeting, Versar will provide a peer review summary report to EPA containing the comments and recommendations from the peer reviewers. The final peer review report will also be made available to the public. In preparing the final health effects documents, EPA will consider Versar's report of the comments and recommendations from the external peer review meeting, as well as written public comments received through the official public docket.

Dated: July 2, 2014.
Nancy K. Stoner,
Acting Assistant Administrator, Office of Water.

[FR Doc. 2014-16176 Filed 7-9-14; 8:45 am]

BILLING CODE 6560-50-P